DEPARTMENT OF COMMERCE

International Trade Administration

[A-475-811, A-588-831, C-475-812]

Continuation of Antidumping Duty Orders and Countervailing Duty Order: Grain-Oriented Silicon Electrical Steel From Italy and Japan

AGENCY: Import Administration, International Trade Administration, Department of Commerce.

ACTION: Notice of continuation of antidumping duty orders and countervailing duty order: grain-oriented silicon electrical steel from Italy and Japan.

SUMMARY: On July 5, 2000, and November 1, 2000, the Department of Commerce (“the Department”), pursuant to sections 751(c) and 752 of the Tariff Act of 1930, as amended (“the Act”), determined that revocation of the antidumping duty orders on grain-oriented silicon electrical steel (“GOES”) from Italy and Japan (65 FR 41433) and the countervailing duty order on GOES from Italy (65 FR 65295) would be likely to lead to continuation or recurrence of dumping, or countervailable subsidy, as applicable.

On March 1, 2001, the International Trade Commission (“the Commission”), pursuant to section 751(c) of the Act, determined that revocation of the antidumping duty orders and the countervailing duty order on GOES from Italy and Japan would be likely to lead to continuation or recurrence of material injury to an industry in the United States within a reasonably foreseeable time (66 FR 12958 (March 1, 2001)). Therefore, pursuant to 19 CFR 351.218(f)(4), the Department is publishing this notice of continuation of the antidumping duty orders and the countervailing duty order on GOES from Italy and Japan.

Effective Date: March 14, 2001.

FOR FURTHER INFORMATION CONTACT: Martha V. Douthit or James P. Maeder, Office of Policy for Import Administration, International Trade Administration, U.S. Department of Commerce, 14 Street and Constitution Ave., NW, Washington, D.C. 20230; telephone: (202) 482-5050 or (202) 482-3330, respectively.

SUPPLEMENTARY INFORMATION

Background

On December 1, 1999, the Department initiated (64 FR 67247), and the Commission instituted (64 FR 67318), sunset reviews of the antidumping duty orders and the countervailing duty order on GOES from Italy and Japan pursuant to section 751(c) of the Act. As a result of these reviews, the Department found that revocation of the antidumping duty orders would likely lead to continuation or recurrence of dumping and notified the Commission of the magnitude of the margins likely to prevail were the orders revoked.¹ In addition, the Department found that revocation of the countervailing duty order would likely lead to continuation of a countervailable subsidy and notified the Commission of the net subsidy likely to prevail, as well as the nature of the subsidy.²

¹ Grain-Oriented Electrical Steel From Italy and Japan; Final Results of Expedited Sunset Reviews of Antidumping Duty Orders, 65 FR 41433 (July 5, 2000).

² Grain-Oriented Electrical Steel from Italy; Final Results of Full Sunset Review of Countervailing Duty Order, 65 FR 65295 (November 1, 2000).

On March 1, 2001, the Commission determined, pursuant to section 751(c) of the Act, that revocation of the antidumping duty orders and the countervailing duty order on GOES from Italy and Japan would likely lead to continuation or recurrence of material injury to an industry in the United States within a reasonably foreseeable time.³

³ Grain-Oriented Silicon Electrical Steel From Italy and Japan, 66 FR 12958 (March 1, 2001) and USITC Publication 3396 (February 2001), Investigation Nos. 701-TA-355 and 701-TA-659-660 (Review).

Scope of the Orders

The scope of these orders includes GOES, which is a flat-rolled alloy steel product containing by weight at least 0.6 percent of silicon, not more than 0.08 percent of carbon, not more than 1.0 percent of aluminum, and no other element in an amount that would give the steel the characteristics of another alloy steel, of a thickness of no more than 0.56 millimeters, in coils of any width, or in straight lengths which are of a width measuring at least 10 times the thickness, as currently classifiable in the Harmonized Tariff Schedule of the United States (“HTS”) under item numbers 7225.10.0030, 7226.10.1030, 7226.10.5015, and 7226.10.5056. Although the HTS subheadings are provided for convenience and customs purposes, our written descriptions of the scope of these orders are dispositive.

Determination

As a result of the determinations by the Department and the Commission that revocation of the antidumping duty orders and the countervailing duty order would likely lead to continuation or recurrence of dumping or countervailable subsidies, and material injury to an industry in the United States, pursuant to section 751(d)(2) of the Act, the Department hereby orders the continuation of the antidumping duty orders and the countervailing duty order on GOES from Italy and Japan. The effective date of continuation of this order will be the date of publication in the Federal Register of this Notice of Continuation. Pursuant to section 751(c)(2) and 751(c)(6)(A) of the Act, the Department intends to initiate the next five-year review of this order not later than February 2006.

Effective January 20, 2001, Bernard T. Carreau is fulfilling the duties of the Assistant Secretary for Import Administration.

Dated: March 8, 2001.
Bernard T. Carreau,
Deputy Assistant Secretary, Import Administration.

[FR Doc. 01-6364 Filed 3-13-01; 8:45 am]

BILLING CODE 3510-DS-P